FEDERAL MINE SAFETY AND HEALTH REVIEW COMMISSION

Sunshine Act Meeting; Notice

March 12, 2007.

Time and Date: 10 a.m., Thursday, March 22, 2007.

Place: The Richard V. Backley Hearing Room, 9th Floor, 601 New Jersey Avenue, NW., Washington, DC.

Status: Open.

Matters to be Considered: The Commission will hear oral argument in the matter United Mine Workers of America on behalf of Local 1248, District 2 v. Maple Creek Mining, Inc., Docket No. PENN 2002-23-C. (Issues include whether the Administrative Law Judge erred in denying the operator's motion for summary decision on the ground that a withdrawal order issued to the operator pursuant to section 104(b) of the Mine Act could not be contested pursuant to section 105(a), and thus became final for purposes of the compensation provisions of section 111 when it was not contested under section 105(d) within 30 days of its issuance.)

Any person attending this oral argument who requires special accessibility features and/or auxiliary aids, such as sign language interpreters, must inform the Commission in advance of those needs.

Contact Person for more Information: Jean Ellen; (202) 434-9950/(202) 708-9300 for TDD Relay/1-800-877-8339 for toll free.

Sandra G. Farrow,
Acting Chief Docket Clerk.

[FR Doc. 07-1401 Filed 3-19-07; 11:54 pm]

BILLING CODE 6735-01-M